CORPORATION FOR NATIONAL AND COMMUNITY SERVICE

Sunshine Act Meeting Notice

The National Civilian Community Corps Advisory Board gives notice of the following meeting:

DATE AND TIME: Thursday, June 25, 2015, 2 p.m.-3 p.m. (CT).

PLACE: NCCC Campus located at 1004 G Ave., Vinton, IA 52349.

CALL-IN INFORMATION: This meeting is available to the public through the following toll-free call-in number: 800-369-1873 conference call access code number 9921244. Pete McRoberts will be the lead on the call. Any interested member of the public may call this number and listen to the meeting. Callers can expect to incur charges for calls they initiate over wireless lines, and the Corporation will not refund any incurred charges. Callers will incur no charge for calls they initiate over land-line connections to the toll-free telephone number. Replays are generally available one hour after a call ends. The toll-free phone number for the replay is 866-421-5878, replay passcode 95221. The end replay date: July 29, 2015, 11:59 p.m. (CT).

STATUS: Open.

MATTERS TO BE CONSIDERED:

I. Meeting Convenes

• Call to Order, Welcome, and Preview of Today's Meeting Agenda

• Introduction & Acknowledgements

II. Director's Report

III. Program Reports

• Projects and Partnerships

• Policy and Operations

• Recruitment, Selection and Placement

IV. Public Comment

ACCOMMODATIONS: Anyone who needs an interpreter or other accommodations should notify the Corporation's contact person by 5 p.m. Friday, June 19, 2015.

CONTACT PERSON FOR MORE INFORMATION: Erma Hodge, NCCC, Corporation for National and Community Service, 9th Floor, Room 9802B, 1201 New York Avenue NW., Washington, DC 20525. Phone 202-606-6696. Fax 202-606-3459. TTY: 800-833-3722. Email address: ehodge@cns.gov.

Dated: May 5, 2015.
Jeremy Joseph,
General Counsel.

[FR Doc. 2015-13124 Filed 5-27-15; 4:15 pm]

BILLING CODE 6050-28-P